DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. chapter 35).

Agency: United States Patent and Trademark Office (USPTO).

Title: Public Key Infrastructure (PKI) Certificate Action Form.

Form Number(s): PTO-2042.

Agency Approval Number: 0651-0045.

Type of Request: Extension of a currently approved collection.

Burden: 4,000 hours annually.

Number of Respondents: 8,000 responses per year.

Avg. Hours Per Response: The USPTO estimates that it will take the public approximately 30 minutes (0.5 hours) to read the instructions and Subscriber Agreement, gather the necessary information, prepare the Certificate Action Form, and submit the completed request.

Needs and Uses: In support of the Government Paperwork Elimination Act and its own electronic filing initiatives, the USPTO has implemented Public Key Infrastructure (PKI) technology to support secure electronic commerce between the USPTO and its customers. Customers may submit a request to the USPTO for a digital certificate, which allows the customer to use the encryption keys necessary for electronic identity authentication and secure transactions with the USPTO. The public uses this collection to request a digital certificate, the revocation of a certificate, or the recovery of a lost encryption key. The USPTO uses this collection to process certificate requests and to provide customers with the authorization codes to use the cryptographic software.

Affected Public: Individuals or households, businesses or other for-profits, not-for-profit institutions, farms, the Federal government, and State, local, or tribal governments.

Frequency: On occasion.

Respondent's Obligation: Required to obtain or retain benefits.

OMB Desk Officer: David Rostker, (202) 395-3897.

Copies of the above information collection proposal can be obtained by calling or writing Susan K. Brown, Records Officer, Office of Data Architecture and Services, Data Administration Division, USPTO, Suite 310, 2231 Crystal Drive, Washington, DC 20231, by phone at (703) 308-7400, or by e-mail at susan.brown@uspto.gov.

Written comments and recommendations for the proposed information collection should be sent on or before April 30, 2003, to David Rostker, OMB Desk Officer, Room 10202, New Executive Office Building, 725 17th Street, NW., Washington, DC 20503.

Dated: March 24, 2003.
Susan K. Brown,
Records Officer, USPTO, Office of Data Architecture and Services, Data Administration Division.

[FR Doc. 03-7553 Filed 3-28-03; 8:45 am]

BILLING CODE 3510-16-P